SECURITIES AND EXCHANGE COMMISSION

[Release No. 34-79561; SR-NYSEMKT-2016-58]

Self-Regulatory Organizations; NYSE MKT LLC; Notice of Withdrawal of a Proposed Rule Change, as Modified by Amendments No. 1 and 2 Thereto, Relating to Amendments to NYSE MKT Rules 1600 et seq. and the Listing Rules Applicable to the Shares of the Nuveen Diversified Commodity Fund and the Nuveen Long/Short Commodity Total Return Fund

December 15, 2016.

On May 24, 2016, NYSE MKT LLC (“Exchange”) filed with the Securities and Exchange Commission (“Commission”), pursuant to Section 19(b)(1) of the Securities Exchange Act of 1934 (“Act”) ¹ and Rule 19b-4 thereunder,² a proposed rule change to among other things, amend NYSE MKT Rules 1600 et seq. and to amend the listing rules applicable to the shares of the Nuveen Diversified Commodity Fund and the Nuveen Long/Short Commodity Total Return Fund, which the Exchange currently lists and trades. The proposed rule change was published for comment in the Federal Register on June 13, 2016.³ On July 28, 2016, pursuant to Section 19(b)(2) of the Act,⁴ the Commission designated a longer period within which to approve the proposed rule change, disapprove the proposed rule change, or institute proceedings to determine whether to disapprove the proposed rule change.⁵ On September 2, 2016, the Exchange filed Amendment No. 1 to the proposed rule change, which replaced and superseded the proposed rule change as originally filed.⁶ On September 9, 2016, the Commission instituted proceedings under Section 19(b)(2)(B) of the Act,⁷ to determine whether to approve or disapprove the proposed rule change, as modified by Amendment No. 1.⁸ On November 10, 2016, the Exchange filed Amendment No. 2 to the proposed rule change, which replaced and superseded the proposed rule change as modified by Amendment No. 1 thereto its entirety.⁹ On December 8, 2016, pursuant to Section 19(b)(2) of the Act,¹⁰ the Commission designated February 8, 2017 as the date by which the Commission would either approve or disapprove the proposed rule change, as modified by Amendments No. 1 and 2.¹¹ The Commission has received two comments on the proposal.¹²

¹ 15 U.S.C. 78s(b)(1).

² 17 CFR 240.19b-4.

³ See Securities Exchange Act Release No. 78000 (June 7, 2016), 81 FR 38232.

⁴ 15 U.S.C. 78s(b)(2).

⁵ See Securities Exchange Act Release No. 78432, 81 FR 51248 (August 3, 2016). The Commission designated September 9, 2016, as the date by which the Commission would either approve or disapprove, or institute proceedings to determine whether to disapprove, the proposed rule change.

⁶ Amendment No. 1 is available at https://www.sec.gov/comments/sr-nysemkt-2016-58/nysemkt201658-2.pdf.

⁷ 15 U.S.C. 78s(b)(2)(B).

⁸ See Securities Exchange Act Release No. 78804 (September 9, 2016), 81 FR 63543 (September 15, 2016).

⁹ Amendment No. 2 is available at https://www.sec.gov/comments/sr-nysemkt-2016-58/nysemkt201658-4.pdf.

¹⁰ 15 U.S.C. 78s(b)(2).

¹¹ See Securities Exchange Act Release No. 79510 (December 8, 2016), 81 FR 90402 (December 14, 2016).

¹² See letter dated July 4, 2016, to Division of Trading and Markets, Commission (“Anonymous Letter”); and letter from Michael Szkodzinski, Associate General Counsel, Weiss Asset Management LP, to Brent J. Fields, Secretary, Commission, dated October 6, 2016. The comments regarding the proposed rule change are available at: https://www.sec.gov/comments/sr-nysemkt-2016-58/nysemkt201658.shtml.

On December 9, 2016, the Exchange withdrew the proposed rule change, as modified by Amendments No. 1 and 2 (SR-NYSEMKT-2016-58).

For the Commission, by the Division of Trading and Markets, pursuant to delegated authority.¹³
¹³ 17 CFR 200.30-3(a)(12).
Eduardo A. Aleman,
Assistant Secretary.

[FR Doc. 2016-30694 Filed 12-20-16; 8:45 am]

BILLING CODE 8011-01-P